DEPARTMENT OF COMMERCE

National Oceanic and Atmospheric Administration

RIN 0648-XA62

Atlantic Coastal Fisheries Cooperative Management Act Provisions; Application for Exempted Fishing Permit

AGENCY: National Marine Fisheries Service (NMFS), National Oceanic and Atmospheric Administration (NOAA), Commerce.

ACTION: Notification of a request to conduct experimental fishing; request for comments.

SUMMARY: This exempted fishing permit (EFP) application is a continuation of a collaborative project involving the University of New Hampshire (UNH), Durham, NH; the Lobster Conservancy, Friendship, Maine; the New England Aquarium, Boston, MA; and the Atlantic Offshore Lobstermen's Association, Candia, NH. The EFP proposes to continue monitoring legal sized egg bearing female lobsters (berried lobsters) carrying early-stage eggs. The continuation of this project will allow participating Federal lobster permit holders, fishing in designated study areas, to preserve a maximum of ten eggs from each berried lobster captured in commercial lobster gear, to allow researchers to determine what percentage of eggs are fertilized, and estimate the egg developmental stage and time to maturity. The berried lobsters will then be released unharmed. This project would not involve the authorization of any additional trap gear, and all trap gear would conform to existing Federal lobster regulations. There would be no anticipated adverse effects on protected resources or habitat as a result of this research. The EFP would waive the prohibition on removal of eggs for a maximum of 13 participating vessels. The Director, State, Federal and Constituent Programs Office, Northeast Region, NMFS (Office Director) has made a preliminary determination that the subject EFP application contains all the required information and warrants further consideration. The Office Director has also made a preliminary determination that the activities authorized under the EFPs would be consistent with the goals and objectives of Federal management of the American lobster resource. However, further review and consultation may be necessary before a final determination is made to issue EFPs. NMFS announces that the Office Director proposes to issue EFPs and, therefore, invites comments on the issuance of EFPs for this research.

DATES: Comments on this lobster EFP notification for berried lobster monitoring and data collection must be received on or before June 21, 2007.

ADDRESSES: Written comments should be sent to Patricia A. Kurkul, Regional Administrator, NMFS, Northeast Regional Office, 1 Blackburn Drive, Gloucester, MA 01930-2298. Mark the outside of the envelope “Comments - Lobster EFP Proposal”. Comments also may be sent via facsimile (fax) to 978-281-9117, or by e-mail to LobsterMay2007@noaa.gov. Include in the subject line of the e-mail comment the following document identifier: “Comments - Lobster EFP Proposal”.

FOR FURTHER INFORMATION CONTACT: Bob Ross, Fishery Management Specialist, (978) 281-9234, fax (978)-281-9117.

SUPPLEMENTARY INFORMATION:

Background

The regulations that govern exempted fishing, at 50 CFR 600.745(b) and 697.22 allow the Regional Administrator to authorize for limited testing, public display, data collection, exploration, health and safety, environmental clean-up, and/or hazardous removal purposes, and the targeting or incidental harvest of managed species that would otherwise be prohibited. An EFP to authorize such activity may be issued, provided there is adequate opportunity for the public to comment on the EFP application, the conservation goals and objectives of Federal management of the American lobster resource are not compromised, and issuance of the EFP is beneficial to the management of the species.

The American lobster fishery is one of the most valuable fisheries in the northeastern United States. In 2005, approximately 87 million pounds (39,712 metric tons) of American lobster were landed with an ex-vessel value of approximately 414 million dollars. Operating under the Atlantic States Marine Fisheries Commission's interstate management process, American lobster are managed in state waters under Amendment 3 to the American Lobster Interstate Fishery Management Plan (Amendment 3). In Federal waters of the Exclusive Economic Zone (EEZ), lobster is managed under Federal regulations at 50 CFR part 697. Amendment 3, and compatible Federal regulations, established a framework for area management, which includes industry participation in the development of a management program which suits the needs of each lobster management area while meeting targets established in the Interstate Fisheries Management Program. The industry, through area management teams, with the support of state agencies, have played a vital role in advancing the area management program.

American lobster experience very high fishing mortality rates throughout their range, from Canada to Cape Hatteras, North Carolina. Although harvest and population abundance are near record levels due to high recent recruitment and favorable environmental conditions, there is significant risk of a sharp drop in abundance, and such a decline would have serious implications. To facilitate the development of effective management tools, extensive monitoring and detailed data on the biology and composition of lobsters throughout the range of the resource are necessary. To facilitate effective management, this proposed EFP would monitor egg growth and development of berried lobsters in three study areas using traditional lobster trap gear.

Proposed EFP

The EFP proposes to continue the collection of statistical and scientific information as part of a project, originally announced in the Federal Register on October 21, 2004 (69 FR 19165), that is designed to monitor berried lobsters to collect data that will assist in the assessment of the lobster resource and in the development of management practices appropriate to the fishery. Previous data collected in 2005 and 2006 from tagged berried lobsters that were monitored for egg-development stages, indicated a percentage of berried females are carrying eggs that are not fertilized. This continuation of the research will focus on quantifying fertilization success, and monitor egg growth and development.

Each of the maximum of 13 commercial fishing vessels in possession of Federal lobster permits involved in this monitoring and data collection program would collect a maximum of ten eggs from each berried lobster harvested, up to a maximum of 50 berried lobster per vessel, using traditional lobster trap gear. Removal of a maximum of ten eggs from each berried lobster should have no impact on the health or survival of the lobsters, since lobsters typically experience significantly greater rates of daily egg loss throughout their 13-month incubation period, with cumulative egg loss as high as 36 percent. Participating vessels would collect data from each of the three general study areas in the vicinity of Portsmouth, NH, the northern edge of Georges Bank, and in the vicinity of Veatch and Hydrographer Canyons along the southern edge of Georges Bank. The participating vessels may retain on deck egg bearing female lobsters, in addition to legal lobsters, for the purpose of collecting a maximum of ten eggs from each berried lobster to allow researchers to determine what percentage of eggs are fertilized, and to estimate the egg developmental stage, and time to maturity. All berried lobsters would be returned to the sea as quickly as possible after data collection. Pursuant to 50 CFR 600.745(b)(3)(v), the Regional Administrator may attach terms and conditions to the EFP consistent with the purpose of the exempted fishing.

This project would not involve the authorization of any additional lobster trap gear. All traps fished by the participating vessels would comply with all applicable lobster regulations specified at 50 CFR part 697. To allow for the removal of a maximum of ten eggs from each berried lobster, the EFP would waive the American lobster prohibition on removal of eggs specified at 50 CFR 697.7(c)(1)(iv). All sample collections would be conducted by a maximum of 13 federally permitted commercial fishing vessels, during the course of regular commercial fishing operations. There would not be observers or researchers onboard every participating vessel.

This project, including the lobster handling protocols, was initially developed in consultation with UNH scientists. To the greatest extent practicable, these handling protocols are designed to avoid unnecessary adverse environmental impact on lobsters involved in this project, while achieving the data collection objectives of this project.

Authority: 16 U.S.C. 1801 et seq.

Dated: May 31, 2007.
James P. Burgess
Acting Director, Office of Sustainable Fisheries, National Marine Fisheries Service.

[FR Doc. E7-10765 Filed 6-5-07; 8:45 am]

BILLING CODE 3510-22-S